DEPARTMENT OF COMMERCE

Foreign-Trade Zones Board

[Docket 10-2005]

Proposed Foreign-Trade Zone—Conroe (Montgomery County), TX; Application for Subzone, WLS Drilling Products, Inc. (Mining Drill Bits); Montgomery, TX

An application has been submitted to the Foreign-Trade Zones Board (the Board) by the City of Conroe, Texas, which has an application pending before the Board for FTZ status, requesting special-purpose subzone status for the warehousing facility (mining drill bits) of WLS Drilling Products, Inc., (WLS Drilling) in Montgomery, Texas. The application was submitted pursuant to the Foreign-Trade Zones Act, as amended (19 U.S.C. 81a-81u), and the regulations of the Board (15 CFR part 400). It was formally filed on February 25, 2005.

The WLS Drilling facility is located at 18904 Freeport Drive in Montgomery, Texas. The facility (8 employees; 7,000 sq. ft. warehouse with adjacent 2,500 sq. ft. office on 5.2 acres) warehouses and distributes finished rotary rock drill bits used in the mining, construction, and oil and gas industries. WLS Drilling's imported drill bits currently enter the U.S. duty free. However, the application states that the imported products may become subject to duties in the future. WLS Drilling also indicates that, although no manufacturing authority is currently requested, there is the potential for manufacturing at the site in the future. Finally, the application states that the company will benefit from an FTZ-related exemption from local property tax.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions via the U.S. Postal Service: Foreign-Trade-Zones Board, U.S. Department of Commerce, FCB—Suite 4100W, 1401 Constitution Ave. NW., Washington, DC 20230.

The closing period for their receipt is May 6, 2005. Rebuttal comments in response to material submitted during the foregoing period may be submitted during the subsequent 15-day period to May 23, 2005.

A copy of the application and accompanying exhibits will be available for public inspection at the Office of the Foreign-Trade Zones Board's Executive Secretary at address Number 1 listed above and at the Houston U.S. Export Assistance Center, 15600 John F. Kennedy Blvd., Suite 530, Houston, TX 77032.

Dated: February 25, 2005.
Dennis Puccinelli,
Executive Secretary.

[FR Doc. E5-928 Filed 3-4-05; 8:45 am]

BILLING CODE 3510-DS-P